CONSUMER PRODUCT SAFETY COMMISSION

16 CFR Parts 1112 and 1261

[Docket No. CPSC-2017-0044]

Safety Standard for Clothing Storage Units; Notice of Opportunity for Oral Presentation of Comments

AGENCY: Consumer Product Safety Commission.

ACTION: Notice of proposed rulemaking; opportunity for oral presentation of comments.

SUMMARY: The Consumer Product Safety Commission (Commission or CPSC) will be providing an opportunity for interested parties to present oral comments on the notice of proposed rulemaking (NPR) the Commission issued regarding a safety standard for clothing storage units (CSUs). Any oral comments will be part of the rulemaking record.

DATES: The meeting will begin at 10 a.m. Eastern Standard Time (EST) on April 6, 2022, via webinar. All attendees should pre-register for the webinar online at: https://attendee.gotowebinar.com/register/4382433867276269835. Any individual interested in making an oral presentation must register for the webinar and submit a request to make an oral presentation to the Division of the Secretariat, along with the written text of the oral presentation, and such requests must be received no later than 5 p.m. EST on March 23, 2022. All other individuals who wish to attend the meeting should register before the start of the hearing.

ADDRESSES: The hearing will be held via webinar. Attendance is free of charge. Submit requests to make oral presentations and provide the written text of oral presentations to the Division of the Secretariat, with the caption, “Clothing Storage Units NPR; Oral Presentation,” by email to cpsc-os@cpsc.gov, or by mail to the Division of the Secretariat, Consumer Product Safety Commission, 4330 East-West Highway, Bethesda, MD 20814. Detailed instructions for those making oral presentations and other attendees will be made available on the CPSC public calendar.

FOR FURTHER INFORMATION CONTACT: For information about the subject matter of this hearing, contact Kirsten Talcott, Project Manager, Consumer Product Safety Commission, 5 Research Place, Rockville, MD 20850; phone: (301) 987-2311, email: KTalcott@cpsc.gov. For information about the procedure to make an oral presentation, contact Alberta E. Mills, Division of the Secretariat, Consumer Product Safety Commission, 4330 East-West Highway, Bethesda, MD 20814; (301) 504-7479, cpsc-os@cpsc.gov.

SUPPLEMENTARY INFORMATION:

I. Background ¹

¹ The Commission voted 4-0 to publish this notice.

On February 3, 2022, the Commission published an NPR in the Federal Register, proposing to issue a safety standard for CSUs under the Consumer Product Safety Act (CPSA; 15 U.S.C. 2051-2089), and seeking written comments. 87 FR 6246. The proposed rule seeks to address the risk of injuries and death, particularly to children, associated with CSUs tipping over, by requiring CSUs to be tested for stability and to exceed minimum stability requirements; to be marked and labeled with safety information; and to bear a hang tag providing performance and technical data about the stability of the CSU. The proposed rule would apply to “clothing storage units,” which the NPR proposes to define as follows:

Clothing storage unit means a freestanding furniture item, with drawer(s) and/or door(s), that may be reasonably expected to be used for storing clothing, that is greater than or equal to 27 inches in height, and with a total functional volume of the closed storage greater than 1.3 cubic feet and greater than the sum of the total functional volume of the open storage and the total volume of the open space. Common names for clothing storage units include, but are not limited to: Chests, bureaus, dressers, armoires, wardrobes, chests of drawers, drawer chests, chifforobes, and door chests. Whether a product is a clothing storage unit depends on whether it meets this definition. Some products that generally do not meet the criteria in this definition and, therefore, likely are not considered clothing storage units are: Shelving units, office furniture, dining room furniture, laundry hampers, built-in closets, and single-compartment closed rigid boxes (storage chests).

The NPR proposes to exempt clothes lockers and portable storage closets from the standard. The NPR is available at: https://www.govinfo.gov/content/pkg/FR-2022-02-03/pdf/2022-01689.pdf, and CPSC staff's briefing package for the NPR is available at: https://www.cpsc.gov/s3fs-public/Proposed%20Rule-%20Safety%20Standard%20for%20Clothing%20Storage%20Units.pdf.

II. The Public Hearing

The Administrative Procedure Act (5 U.S.C. 551-562) and section 9 of the CPSA require the Commission to provide interested parties with an opportunity to submit “written data, views, or arguments” regarding a proposed rule. 5 U.S.C. 553(c); 15 U.S.C. 2058(d)(2). The NPR invited such written comments. In addition, section 9 of the CPSA requires the Commission to provide interested parties “an opportunity for oral presentation of data, views, or arguments.” 15 U.S.C. 2058(d)(2). The Commission must keep a transcript of such oral presentations. Id. In accordance with this requirement, the Commission is providing a forum for oral presentations concerning the proposed standard for CSUs.

To request the opportunity to make an oral presentation, see the information under the DATES and ADDRESSES sections of this notice. Participants should limit their presentations to approximately 10 minutes, excluding time for questioning by the Commissioners or CPSC staff. To avoid duplicate presentations, groups should designate a spokesperson, and the Commission reserves the right to limit presentation times or impose further restrictions, as necessary.

Alberta E. Mills,
Secretary, Consumer Product Safety Commission.

[FR Doc. 2022-04217 Filed 2-28-22; 8:45 am]

BILLING CODE 6355-01-P